Title 3—

The President

Proclamation 9517 of October 7, 2016

Fire Prevention Week, 2016

By the President of the United States of America

A Proclamation

More than 1 million fires occur each year in the United States. Throughout the past decade, the number of fires—and of resulting deaths and injuries—has gone down. But residential fires still damage homes across our country, causing a higher percentage of fire deaths, injuries, and economic loss than any other fires, and wildfires continue to devastate our forests and threaten nearby homes and businesses. During Fire Prevention Week, we strive to increase our preparedness for fires and commit to giving dedicated firefighters the support they need to keep us safe.

Every moment counts during a fire, and smoke alarms help save lives. However, many people do not know that their smoke alarms should be replaced every 10 years—after 10 years, they tend to become unreliable. I encourage everyone to check the manufacturing dates of their smoke alarms to see if they need replacing. Families and businesses should also develop and practice evacuation plans in case of emergencies and should prepare communication strategies in case of a fire. All Americans can learn more about steps they can take to prepare for fires by visiting www.Ready.gov.

In recent years, we have experienced some of the most severe wildfire seasons in American history, including roughly 50,000 wildfires and over 9 million acres burned last year alone. Climate change exacerbates wildfire risks through drier landscapes and higher temperatures—we must recognize the effects our changing climate has on fire risks and help fire professionals and community leaders take action to enhance community resilience against these risks. Last year, my Administration brought together fire chiefs from around our country to identify key lessons learned from fires at the wildland-urban interface and actions that can be taken to reduce the harm to people and property associated with wildfires in these areas, where fighting fires is especially complicated, expensive, and dangerous. We need to be smarter about where we build, and we must work to better understand how fires behave so our firefighters can work more safely and effectively—we owe these heroic professionals nothing less.

This week presents opportunities for businesses, families, and communities to learn about ways to protect themselves in case of fire and helps raise awareness of steps we can all take to prevent fires. During Fire Prevention Week, we also pause to honor our first responders and firefighters, including those who have sacrificed their own lives to save the lives of people they had never met. Let us salute them and pay tribute to all firefighters whose bravery, sense of duty, and love of country make our Nation a stronger, safer place.

NOW, THEREFORE, I, BARACK OBAMA, President of the United States of America, by virtue of the authority vested in me by the Constitution and the laws of the United States, do hereby proclaim October 9 through October 15, 2016, as Fire Prevention Week. On Sunday, October 9, 2016, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this seventh day of October, in the year of our Lord two thousand sixteen, and of the Independence of the United States of America the two hundred and forty-first.

[FR Doc. 2016-24992

Filed 10-12-16; 11:15 am]

Billing code 3295-F7-P